DEPARTMENT OF AGRICULTURE

Farm Service Agency

7 CFR Part 760

[FSA-2025-0005]

RIN 0560-AI73

Emergency Livestock Relief Program (ELRP) 2023 and 2024; Approval of Information Collection Request

AGENCY: Farm Service Agency, U.S. Department of Agriculture (USDA).

ACTION: Final rule; notice of approval of Information Collection Request (ICR).

SUMMARY: The final rule entitled Emergency Livestock Relief Program (ELRP) 2023 and 2024 was published on May 29, 2025. The Office of Management and Budget cleared the associated information collection requirements (ICR) on May 28, 2025. This document announces approval of the ICR.

DATES: The ICR associated with the final rule published in the Federal Register on May 29, 2025, at 90 FR 22614, was approved by OMB on May 28, 2025, under OMB Control Number 0503-0028.

FOR FURTHER INFORMATION CONTACT: Kathy Sayers; telephone: (202) 720-6870; email: Kathy.Sayers@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: The information collection request has been approved by OMB under the control number 0503-0028; Expiration Date: 10/31/2027. FSA will use Livestock Forage Disaster Program (LFP) documentation as the basis for making ELRP 2023 and 2024 payments to producers. For the information collection changes related to the existing approval under 0503-0028, the agency is seeking to use FSA-510 with this data collection.

William Beam,
Administrator, Farm Service Agency.

[FR Doc. 2025-10850 Filed 6-12-25; 8:45 am]

BILLING CODE 3411-EA-P